DEPARTMENT OF ENERGY

Federal Energy Regulatory Commission

[Docket No. RP03-532-000]

Stingray Pipeline Company, L.L.C.; Notice of Tariff Filing

July 8, 2003.

Take notice that on June 30, 2003, Stingray Pipeline Company, L.L.C. (Stingray) tendered for filing as part of its FERC Gas Tariff—Third Revised Volume No. 1 the following tariff sheets, with a proposed effective date of August 1, 2003:

First Revised Sheet No. 3.

First Revised Sheet No. 40.

First Revised Sheet No. 50.

Third Revised Sheet No. 300.

First Revised Sheet No. 303.

First Revised Sheet No. 306.

Second Revised Sheet No. 309.

First Revised Sheet No. 311.

First Revised Sheet No. 312.

Stingray states that it is filing the revised tariff sheets primarily to reflect a change in name from “Stingray Pipeline Company” to “Stingray Pipeline Company, L.L.C.” in compliance with Section 154.603 of the Federal Energy Regulatory Commission's Regulations. First Revised Sheet No. 312 also includes a minor change to allow prospective users of Stingray's electronic nomination and scheduling system to provide certain required information on their request form. Stingray states that a copy of this filing has been served upon its customers.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: July 14, 2003.

Magalie R. Salas,
Secretary.

[FR Doc. 03-17679 Filed 7-11-03; 8:45 am]

BILLING CODE 6717-01-P